DEPARTMENT OF LABOR

Employment and Training Administration

Public Listening Session

AGENCY: Employment and Training Administration (ETA), Labor.

ACTION: Notice of public listening session.

SUMMARY: In preparation for launching the Online Skills Academy described in the Administration's “Ready to Work: Job-Driving Training and American Opportunity” report, the Department of Labor (Department), Employment and Training Administration is hosting a virtual listening session to solicit information and public input concerning the development of an Online Skills Academy. This listening session will be hosted in partnership with the Department of Education.

The listening session will provide an opportunity for stakeholders to provide their comments and suggestions and engage in a national dialogue regarding the implementation of this priority funding.

Instructions regarding registering for and attending the listening session are in the SUPPLEMENTARY INFORMATION section of this notice.

DATES:

Listening Session: The virtual listening session will be on, Friday, February 20, 2015, and will begin at 2:00 p.m. and is scheduled to end by 4:00 p.m.

Registration: You must register to attend this virtual listening session. ETA will post specific information on how to register and participate via the Internet on the Online Skills Academy Web site at www.doleta.gov/skillsacademy in advance of the listening session.

Comments: A transcript of all public comments will be available. This transcript and any written comments submitted following the public listening session will be posted on the Online Skills Academy Web site at www.doleta.gov/skillsacademy by Friday, February 27, 2015. Written comments must be submitted electronically to skillsacademy@dol.gov. Comments must be received by 5:00 p.m. ET on Wednesday, February 25, 2015.

ADDRESSES: The listening session will be conducted virtually via live webcast. ETA will post the agenda and logistical information on how to participate via Internet on the Online Skills Academy Web site at http://www.doleta.gov/skillsacademy in advance of the listening session. The session is open to the public and the entire proceedings will be webcast, recorded, and made publicly available. Interested parties may participate via webcast only. Capacity is not limited but registration is required. For information on how to register, go to http://www.doleta.gov/skillsacademy. Registration will be open until the listening session begins. In addition to attending joining the virtual session via webinar, ETA would like to solicit comments electronically to skillsacademy@dol.gov. Comments must be received by 5:00 p.m. ET on Wednesday, February 25, 2015.

SUPPLEMENTARY INFORMATION:

I. Background

In July 2014, Vice President Joe Biden released a report on federal job-driven training programs, http://www.whitehouse.gov/sites/default/files/skills_report_072014_2.pdf. Among other things, programs and initiatives identified in this report highlight the importance of strategies that are responsive to employer needs in order to effectively place ready-to-work Americans in jobs that are available now or train them in the skills needed for better jobs. The report also highlighted future initiatives that expand the tools for job seekers to find pathways to better jobs. One of these initiatives is the Department of Labor's Online Skills Academy, a competition to award up to $25 million for partnerships that will offer open, online courses of study, helping students earn credentials online through participating accredited institutions, and expanding access to curriculum designed to speed the time to credit and completion. Building off the burgeoning marketplace of free and openly-licensed learning resources, including the content developed through the Trade Adjustment Assistance Community College and Career Training (TAACCCT) grant program, this online skills academy will ensure that workers can get the education and training they need to advance their careers by developing skills in-demand by employers through courses that are free to access and provide a low cost means for earning credentials and degrees. This initiative will be administered in partnership with the Department of Education.

To plan this competition, the Departments of Labor and Education will engage stakeholders in a national dialogue to learn and understand concerns and ideas related to the following topics:

• Technology-enabled and online learning, including use of open platforms

• Accelerated career pathways leading to industry-recognized credentials in in-demand fields

• Contextualized learning

• Online and technology enabled assessment tools, including competency-based and open access assessments

• Use of local labor market information and employer engagement in identification of in-demand skills and credentials

II. Instructions for Attending the Listening Session

Space for attendance at this virtual listening session is not limited; however, you must register to attend. Information on how to register and participate will be posted on the Online Skills Academy Web site at http://www.doleta.gov/skillsacademy in advance of the listening session.

III. Draft Agenda for the February 20, 2015 Listening Session

Welcome and Introductions—2:00 p.m. ET to 2:20 p.m. ET

Overview of Online Skills Academy Vision and Required Components—2:20 p.m. ET to 2:30 p.m. ET

Open Comment Period—2:30 p.m. ET to 4:00 p.m. ET

• Topic #1—Online Education and Learning

• Topic #2—Open Educational Resources and Open Platforms

• Topic #3—Training Unemployed Workers and Non-traditional Learners

• Topic #4—Developing Career Pathways in High-Demand Sectors

• Topic #5—Developing Assessments

The agenda will be strictly followed; participants may attend all or part of the listening session as relevant. The updated agenda will be posted on the Online Skills Academy Web site at http://www.doleta.gov/skillsacademy in advance of the listening session.

Portia Wu,
Assistant Secretary for Employment and Training, Labor.

[FR Doc. 2015-03208 Filed 2-17-15; 8:45 am]

BILLING CODE 4510-FN-P